DEPARTMENT OF STATE

[Public Notice: 9886]

Defense Trade Advisory Group; Notice of Open Meeting

The Defense Trade Advisory Group (DTAG) will meet in open session from 1:00 p.m. until 5:00 p.m. on Thursday, March 30, 2017 at 1777 F Street NW., Washington, DC 20006. Entry and registration will begin at 12:30 p.m. The membership of this advisory committee consists of private sector defense trade representatives, appointed by the Assistant Secretary of State for Political-Military Affairs, who advise the Department on policies, regulations, and technical issues affecting defense trade. The purpose of the meeting will be to discuss current defense trade issues and topics for further study.

The following agenda topics will be discussed: (1) Review small business registration requirements, requesting recommendations from the DTAG regarding an appropriate annual registration fee for such persons; (2) Clarify requirements for licensing and registration of U.S. Persons Abroad (USPAB); (3) Discuss and outline suggestions for sample guidelines of a proposed Company Visit Program—Outreach (CVP-O); (4) Discuss flexibility under the Defense Export Control and Compliance System (DECCS) for third party authorizations; (5) Discuss potentially establishing two-way communications methods within DECCS for reporting and status and (6) Discuss approaches for automating material changes to licenses that involve non-registered entities.

Members of the public may attend this open session and will be permitted to participate in the discussion in accordance with the Chair's instructions. Members of the public may, if they wish, submit a brief statement to the committee in writing.

As seating is limited to 125 persons, each member of the public that wishes to attend this plenary session should provide: His/her name and contact information such as email address and/or phone number and any request for reasonable accommodation to notify the DTAG Alternate Designated Federal Officer (DFO), Anthony Dearth, via email at DTAG@state.gov by COB Monday, March 20, 2017. If notified after this date, the Department might be unable to accommodate requests due to requirements at the meeting location. A valid photo identification will be required for admission to the meeting, such as a U.S. driver's license, passport, or U.S. or state Government ID.

For additional information, contact Ms. Glennis Gross-Peyton, PM/DDTC, SA-1, 12th Floor, Directorate of Defense Trade Controls, Bureau of Political-Military Affairs, U.S. Department of State, Washington, DC 20522-0112; telephone (202) 663-2862; FAX (202) 261-8199; or email DTAG@state.gov.

Anthony Dearth,
Alternate Designated Federal Officer, Defense Trade Advisory Group, Department of State.

[FR Doc. 2017-02851 Filed 2-10-17; 8:45 am]

BILLING CODE 4710-25-P